DEPARTMENT OF TRANSPORTATION

Federal Aviation Administration

Public Notice for Waiver of Aeronautical Land-Use Assurance; Richard Downing Airport, Coshocton, OH

AGENCY: Federal Aviation Administration, DOT.

ACTION: Notice of intent of waiver with respect to land.

SUMMARY: The Federal Aviation Administration (FAA) is considering a proposal to change a portion of the airport from aeronautical use to non-aeronautical use and to authorize the sale of the airport property. The proposal consists of the sale of vacant, unimproved land owned by the Coshocton County Regional Airport Authority. Parcels LR3, LR4, LR5, LR6, and LR7 total approximately 9.714 acres. The land was acquired under grants 5-39-0028-01, 5-39-0028-02, and 3-39-0028-0183. There are no impacts to the airport by allowing the airport to dispose of the property. The proposed land for release is vacant, not required for future development, safety, or compatible land use. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before June 3, 2011.

FOR FURTHER INFORMATION CONTACT: Alex Erskine, Program Manager, Detroit Airports District Office, 11677 South Wayne Road, Suite 107, Romulus, Michigan 48174. Telephone Number: (734) 229-2927/FAX Number: (734) 229-2950. Documents reflecting this FAA action may be reviewed at this same location or at Richard Downing Airport, Coshocton, Ohio.

SUPPLEMENTARY INFORMATION: Following are legal descriptions of the property located in Keene and Tuscarawas Townships, County of Coshocton, State of Ohio, and described as follows:

Parcel LR3

Being a tract of land in Lot 22. Fourth Quarter, Hamilton's Section, D.V. 6/62, Range 6W, Township 6N, Keene Township, and the First Quarter, Range 6W. Township 5N. Tuscarawas Township, Coshocton County, State of Ohio, and being further described as follows:

Beginning at a point on the South line of said Keene Township and on the North line of said Tuscarawas Township, said point being in Airport Road and on the West line of the lands of R.F. & K.A. Adams (O.R. 123/181), said point being located 271 degrees 01′ 42″, a distance of one thousand three hundred six and sixty hundredths (1,306.60) feet from a 5″ concrete monument recovered at the Southeast corner of said Lot 22;

Thence, crossing into the said First Quarter of Tuscarawas Township and with the said West line of the lands of R.F. & K.A. Adams, 174 degrees 55′42″, a distance of eighteen and eighty-seven hundredths (18.87) feet to a point at the Northeast corner of the lands of the City of Coshocton (D.V. 236/173) (old canal lands);

Thence, with the said lands of the City of Coshocton the following five (5) courses:

1. 264 degrees 55′15″, a distance of twenty-four and ninety-one hundredths (24.91) feet to a set steel pin;

2. 266 degrees 55′31″, a distance of one hundred and six hundredths (100.06) feet to a point;

3. 267 degrees 29′51″, a distance of one hundred and ten hundredths (100.10) feet to a point;

4. 259 degrees 12′37″, a distance of one hundred and fifty hundredths (100.50) feet to a point;

5. 267 degrees 40′08″, a distance of twenty-two and twenty-six hundredths (22.26) feet to a set steel pin;

Thence, running through the lands of the Coshocton County Regional Airport Authority (D.V. 274/349) (Second Tract) with the following three (3) courses;

1. Crossing back into said Lot 22, Fourth Quarter, Keene Township, 354 degrees 39′22″, a distance of six hundred twenty-eight and seventeen hundredths (628.17) feet to a set steel pin;

2. 84 degrees 24′53″, a distance of three hundred seventeen and ninety-five hundredths (317.95) feet to a set steel pin;

3. Continuing 84 degrees 24′53″, a distance of thirty-two and nineteen hundredths (32.19) feet to a point on the said West line of the lands of R.F. & K.A. Adams and in said Airport Road;

Thence, with the said lands of R.D. & K.A. Adams and running in said Airport Road, 174 degrees 55′42″, a distance of four hundred fifty-one and sixty-three hundredths (451.63) feet to a point;

Thence, running through the said lands of the Coshocton County Regional Airport Authority, 269 degrees 55′42″, a distance of thirty-two and twelve hundredths (32.12) feet to a point at the Southeast corner of Lot 31, Town of Newport (D.V. 5/479) (vacated 1894);

Thence, with said Lot 31 the following four (4) courses:

1. 269 degrees 55′42″, a distance of one hundred thirty-two and no hundredths (132.00) feet to a point;

2. 359 degrees 55′42″, a distance of one hundred thirty-two and no hundredths (132.00) feet to a point;

3. 90 degrees 10′02″, a distance of one hundred twenty and fifty hundredths (120.50) feet to a point;

4. 174 degrees 55′42″, a distance of one hundred thirty-two and no hundredths (132.00) feet to a point;

Thence, running through the said lands of the Coshocton County Regional Airport Authority, 89 degrees 55′42″, a distance of thirty-two and twelve hundredths (32.12) feet to a point in said Airport Road and on the said West line of the lands of R.F. & K.A. Adams;

Thence, running in said Airport Road and with the said West line of the lands of R.F. & K.A. Adams, 174 degrees 55′42″, a distance of sixty-five and seventy-six hundreths (65.76) feet to a point on a projection of the North line of the lands of the Board of Commissioners (O.R. 260/185);

Thence, with the said projection of the North line of the Board of Commissioners, 264 degrees 09′56″, a distance of eight and seventy hundredths (8.70) feet to a point on the centerline of said Airport Road and at the Northeast corner of the said lands of the Board of Commissioners;

Thence, with the said lands of the Board of Commissioners the following six (6) courses:

1. With the said centerline of Airport Road, 174 degrees 09′45″, a distance of eighty and no hundredths (80.00) feet to a point;

2. 271 degrees 19′21″, a distance of thirty-five and ninety hundredths (35.90) feet to a set steel pin;

3. Continuing 271 degrees 19′21″, a distance of sixty-two and thirty-eight hundredths (62.38) feet to a set steel pin;

4. 354 degrees 09′56″, a distance of sixty-seven and seventy-seven hundredth (67.77) feet to a set steel pin;

5. 84 degrees 09′56″, a distance of sixty and no hundredths (60.00) feet to a set steel pin;

6. Continuing 84 degrees 09′56″, a distance of thirty-seven and fifty-one hundredths (37.51) feet to a point at the said Northeast corner of the said lands of the Board of Commissioners;

Thence, with the said projection of the North line of the lands of the Board of Commissioners, 84 degrees 09′56″, a distance of eight and seventy hundredths (8.70) feet to the point on the said West line of the lands of R.F. & K.A. Adams;

Thence, with the said West line of the lands of R.F. & K.A. Adams, 174 degrees 55′42″, a distance of ninety-four and seven hundredths (94.07) feet to the point of beginning;

The above described tract contains four and four hundred sixty-two thousandths (4.462) acres, more or less, of which four and one hundred eighty-seven thousandths (4.187) acres are in said Lot 22, Fourth Quarter, Keene Township (part of 017-09400109-00) and zero and two hundred seventy-five thousandths (0.275) acres are in the said First Quarter, Tuscarawas Township (part of 035-15100002-01), as surveyed by R. Scott Johnson, Registered Professional Surveyor No. 6791, August 25, 2005.

This description is intended to convey part of the Second Tract of the lands previously transferred to the Coshocton County Regional Airport Authority (D.V. 274/349).

(Quit-Claim Area)

Being a tract of land in Lot 22, Fourth Quarter, Hamilton's Section, D.V. 6/62, Range 6W, Township 6N, Keene Township, Coshocton County, State of Ohio, and being further described as follows:

Beginning at a point at the Southeast corner of Lot 31, Town of Newport (D.V. 5/479) (vacated 1894), said point being located from a 5″ concrete monument recovered at the Southeast comer of said Lot 22 by the following three (3) courses:

1. With the South line of said Keene Township, 271 degrees 01′42″, a distance of one thousand three hundred six and sixty hundredths (1,306.60) feet to a point in Airport Road and on the West line of the lands of R.F. & K.A. Adams (O.R. 123/181);

2. Running in said Airport Road and with the said West line of the lands of R.F. & K.A. Adams, 354 degrees 55′42″, a distance of one hundred fifty-nine and eighty-three hundredths (159.83) feet to a point on a projection of the South line of said Lot 31;

3. With the said projection of the South line of Lot 31, 269 degrees 55′42″, a distance of thirty-two and twelve hundredths (32.12) feet to the said beginning point;

Thence, with said Lot 31 the following four (4) courses:

1. 269 degrees 55′42″, a distance of one hundred thirty-two and no hundredths (132.00) feet to a point;

2. 359 degrees 55′42″, a distance of one hundred thirty-two and no hundredths (132.00) feet to a point;

3. 90 degrees 10′02″, a distance of one hundred twenty and fifty hundredths (120.50) feet to a point;

4. 174 degrees 55′42″, a distance of one hundred thirty-two and no hundredths (132.00) feet to the point of beginning;

The above described tract contains zero and three hundred eighty-two thousandths (0.382) acres, more or less, as surveyed by R. Scott Johnson, Registered Professional Surveyor No. 6791, August 25, 2005.

This description is intended to convey all of Lot 31, Town of Newport, D.V. 5, Page 479 (vacated 1894) (017-09400109-00).

Parcel LR4

Being a tract of land in Lot 22, Plat of Hamilton's Section, Deed Book 6, Page 62, Fourth Quarter, Range 6W, Township 6N, Keene Township, Coshocton County, State of Ohio, and being further described as follows;

Note: North based on GPS observations. All steel pins indicated as set are ⅝″ x 30″ rebar with plastic caps. Research Data: Deeds, surveys and plats of record.

Beginning at a steel pin set on the Southwest Right-of-Way line of Hanger Court, said pin being located from a point at the Southwest corner of the Dedication Plat of the Extension of Airport Road (C. R. 202), Plat Book 4, Page 144, by the following four (4) courses:

1. With the Southeast line of the vacated portion of Airport Road (C. R. 202) (O.R. 350/279), 205 degrees 19′20″, a distance of eighty-one and fifty-seven hundredths (81.57) feet to a point on the Right-of-Way line of said Airport Road (C. R. 202);

2. With the said Right-of-Way line of Airport Road (C. R. 202), 128 degrees 03′55″, a distance of sixty and ninety-six hundredths (60.96) feet to a point;

3. With the said Right-of-Way line of Hanger Court, 214 degrees 17′38″, a distance of five hundred ten and thirty-nine hundredths (510.39) feet to a point;

4. Continuing with the said Right-of-Way line of Hanger Court, 126 degrees 32′23″, a distance of eight and twenty hundredths (8.20) feet to the said beginning point;

Thence, continuing with the said Right-of-Way line of Hanger Court, 126 degrees 32′23″, a distance of forty and no hundredths (40.00) feet to a set steel pin;

Thence, running through the lands of the Coshocton County Regional Airport Authority (D.R. 274/349) with the following five (5) courses:

1. 216 degrees 32′23″, a distance of five hundred fifty-four and ninety-eight hundredths (554.98) feet to a set steel pin;

2. 126 degrees 32′23″, a distance of five hundred forty and eighty hundredths (540.80) feet to a set steel pin;

3. 216 degrees 32′23″, a distance of one hundred fifty and no hundredths (150.00) feet to a set steel pin;

4. 306 degrees 32′23″, a distance of five hundred eighty and eighty hundredths (580.80) feet to a set steel pin;

5. 36 degrees 32′23″, a distance of seven hundred four and ninety-eight hundredths (704.98) feet to the point of beginning;

The above described tract contains two and five hundred ten thousandths (2.510) acres, more or less, as surveyed by R. Scott Johnson, Registered Professional Surveyor No. 6791, September 19, 2007.

Parcel LR5

Being a tract of land in Lot 21, Plat of Hamilton's Section, D.B. 6, Page 62, Fourth Quarter. Range 6W, Township 6N, Keene Township. Coshocton County, State of Ohio and being further described as follows;

Beginning at a recovered 4″ square concrete monument at the Northeast corner of Lot 13, J.H. Snedeker Park Addition No. 5, Plat Book 3, Page 42 and on the West line of the said Fourth Quarter;

Thence through the lands of the Coshocton County Regional Airport Authority (D.R. 274/349) the following three courses;

1. 115 degrees 27′ 01″ a distance of two-hundred eighty-one and forty-seven hundredths (281.47) feet to a set steel pin;

2. 193 degrees 51′ 43″ a distance of seventy-one and eighty-one hundredths (71.81) feet to a set steel pin;

3. 272 degrees 32′ 14″ a distance of two-hundred forty-five and zero hundredths (245.00) feet to a steel pin set on the said West line of the Fourth Quarter;

Thence with the said West line of the Fourth Quarter 02 degrees 29′ 14″ a distance of one-hundred eighty and zero hundredths (180.00) feet to the said point of beginning;

The above described tract contains zero and seven-thousand three-hundred thirty-five ten-thousandths (0.7335) acres, more or less, as surveyed by R. Scott Johnson, Registered Professional Surveyor No. 6791. January 26, 2009.

This description is intended to convey part of the lands previously transferred to the Coshocton County Regional Airport Authority (D.R. 274/349) (017-09400096-00 part).

Parcel LR6

Being a tract of land in Lot 21, Plat of Hamilton's Section, D.B. 6, Page 62, Fourth Quarter, Range 6W, Township 6N, Keene Township, Coshocton County, State of Ohio and being further described as follows;

Beginning at a point at the Southeast corner of Lot 15, J.H. Snedeker Park Addition No. 5, Plat Book 3, Page 42. Said point also being located on the West line of the said Fourth Quarter, in a sand box and 92 degrees 32′ 14″ a distance of ninety-four and thirty-one hundredths (94.31) feet from a 4″ square concrete monument with X recovered at the Southwest corner of said Lot 15;

Thence with the East line of said J.H. Snedeker Park Addition No. 5 and the said West line of the Fourth Quarter 02 degrees 29′ 14″ a distance of one-hundred seventy-two and zero hundredths (172.00) feet to a set steel pin; thence through the lands of the Coshocton County Regional Airport Authority (D.R. 274/349 & O.R. 437/946) the following four (4) courses;

1. 92 degrees 32′ 14″ a distance of two-hundred forty-five and zero hundredths (245.00) feet to a set steel pin;

2. 201 degrees 51′ 31″ a distance of two-hundred fourteen and six hundredths (214.06) feet to a recovered 5/8″ rebar with plastic cap;

3. 272 degrees 32′ 14″ a distance of one-hundred forty-four and zero hundredths (144.00) feet to a recovered 5/8″ rebar with plastic cap at the center of vacated T.R. 201 (O.R. 437/946);

4. Continuing 272 degrees 32′ 14″, a distance of thirty and no hundredths (30.00) feet to a point on the said East line of J.H. Snedeker Park Addition No. 5, Plat Book 3, Page 42;

Thence with the said East line of J.H. Snedeker Park Addition No. 5, Plat Book 3, Page 42, 02 degrees 29′ 14″ a distance of thirty and zero hundredths (30.00) feet to the point of beginning;

The above described tract contains nine-thousand seven-hundred fifteen ten-thousandths (0.9715) acres, more or less, as surveyed by R. Scott Johnson, Registered Professional Surveyor No. 6791, January 26, 2009 and revised September 3, 2009.

This description is intended to convey part of the lands previously transferred to the Coshocton County Regional Airport Authority (D.R. 274/349 & O.R. 437/946) (017-09400096-00 part).

Parcel LR7

Being 0.662 acres, more or less, in Lot 21, Plat of Hamilton's Section, DR 6, page 62, in the Fourth Quarter of Township 6 North, Range 6 West, United States Military Lands, in Township of Keene, in the County of Coshocton, in the State of Ohio, conveyed to Coshocton County Regional Airport Authority, DR 274-349 (part, 1st. tract) and OR 109-64 (part), Parcel No. 017-09400096-00 (part) and more particularly described as follows:

Commencing at a concrete monument found at the Southeast corner of Lot 36, J. H. Snedeker Park Addition No. 5, Plat Book 3, page 42, said monument being the True Point of Beginning:

Thence, with the East line of Lot 36 and the extension of the East line of Lot 36, of said Plat, the following 2 courses:

1. Thence, N. 02° 22′ 32″ E. a distance of 175.49′ to a concrete monument found;

2. Thence, N. 02° 22′ 32″ E. a distance of 30.00′ to a point;

Thence, through the property of Coshocton County Regional Airport Authority, DR 274-349 and OR 109-64, the following 8 courses:

1. Thence, S, 87° 37′ 00″ E. a distance of 30.00′ to a 5/8″ rebar set;

2. Thence, S. 87° 37′ 00″ E. a distance of 143.93′ to a 5/8″ rebar set;

3. Thence, S. 21° 41′ 47″ W. a distance of 31.79′ to a 5/8″ rebar found;

4. Thence, S. 22° 11′ 20″ W. a distance of 72.48′ to a 5/8″ rebar set;

5. Thence, S. 16° 02′ 04″ W. a distance of 110.11' to 5/8″ rebar set;

6. Thence, N. 87° 46′ 04″ W. a distance of 82.84′ to a 5/8″ rebar set;

7. Thence, N. 87° 46′ 04″ W. a distance of 17.59′ to a concrete monument found;

8. Thence, N. 87° 46′ 04″ W. a distance of 12.41′ to the True Point of Beginning, containing 0.662 acres, more or less, and is subject to all easements, rights-of-way, or restrictions, whether recorded or implied.

Bearings are based on Plat Book 3, page 42 and are for angular calculations only.

Surveys by: R. Scott Johnson, James V. Gute, Rolland L. Marx.

Description and plat by Alan Donaker, Professional Surveyor, #8050, from a survey of the premises on June 25, in the year of our Lord Two Thousand Nine. REVISED August 25, 2009.

Issued in Romulus, Michigan on March 31, 2011.
John L. Mayfield Jr.,
Manager, Detroit Airports District Office, FAA, Great Lakes Region.

[FR Doc. 2011-10812 Filed 5-3-11; 8:45 am]

BILLING CODE 4910-13-P